SMALL BUSINESS ADMINISTRATION

[Disaster Declaration # 11308]

Illinois Disaster # IL-00016

AGENCY: U.S. Small Business Administration.

ACTION: Notice.

SUMMARY: This is a Notice of the Presidential declaration of a major disaster for Public Assistance Only for the State of Illinois (FEMA—1771—DR), dated 06/24/2008.

Incident: Severe Storms and Flooding.

Incident Period: 06/01/2008 and continuing.

Effective Date: 06/24/2008.

Physical Loan Application Deadline Date: 08/25/2008.

ADDRESSES: Submit completed loan applications to: U.S. Small Business Administration, Processing and Disbursement Center, 14925 Kingsport Road, Fort Worth, TX 76155.

FOR FURTHER INFORMATION CONTACT: Alan Escobar, Office of Disaster Assistance, U.S. Small Business Administration, 409 3rd Street, Suite 6050, Washington, DC 20416.

SUPPLEMENTARY INFORMATION: Notice is hereby given that as a result of the President's major disaster declaration on 06/24/2008, applications for Private Non-Profit organizations that provide essential services of a governmental nature may file disaster loan applications at the address listed above or other locally announced locations.

The following areas have been determined to be adversely affected by the disaster:

Primary Counties: Adams, Calhoun, Clark, Coles, Crawford, Cumberland, Hancock, Henderson, Jasper, Lawrence, Mercer, Pike, Rock Island.

The Interest Rates are:

| Percent
Other (Including Non-Profit Organizations) With Credit Available Elsewhere | 5.250
Businesses and Non-Profit Organizations Without Credit Available Elsewhere | 4.000

The number assigned to this disaster for physical damage is 11308.

(Catalog of Federal Domestic Assistance Number 59008)

Herbert L. Mitchell,
Associate Administrator for Disaster Assistance.

[FR Doc. E8-15377 Filed 7-3-08; 8:45 am]

BILLING CODE 8025-01-P